DEPARTMENT OF HEALTH AND HUMAN SERVICES (DHHS)

National Institutes of Health

Proposed Collection; Comment Request; NIH Neurobiobank Tissue Access Request

SUMMARY: In compliance with the requirement of Section 3506(c)(2)(A) of the Paperwork Reduction Act of 1995, for opportunity for public comment on proposed data collection projects, the National Institute of Mental Health (NIMH), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Keisha Shropshire, NIMH Project Clearance Liaison, Science Policy and Evaluation Branch, OSPPC, NIMH, NIH, Neuroscience Center, 6001 Executive Boulevard, MSC 9667, Rockville Pike, Bethesda, MD 20892, or call 301-443-4335 or Email your request, including your address to: nimhprapubliccomments@mail.nih.gov. Formal requests for additional plans and instruments must be requested in writing.

Comment Due Date: Comments received within 60 days of the date of this publication will receive fullest consideration.

Proposed Collection: National Institute of Health Neurobiobank Tissue Access Request-0925-New. National Institute of Mental Health (NIMH), National Institute of Health (NIH).

Need and Use of Information Collection: The NIH Neurobiobank Tissue Access Request form is necessary for “Recipient” Principal Investigators and their organization or corporations with approved assurance from the DHHS Office of Human Research Protections to access tissue or biospecimens from the National Neurobiobank for research purposes. The primary use of this information is to document, track, monitor, and evaluate the appropriate use of the Neurobiobank tissue and biospecimen resources, as well as to notify interested recipients of updates, corrections or other changes to the system.

OMB approval is requested for 3 years. There are no costs to respondents other than their time. The total estimated annualized burden hours are 63.

Estimates Annual Burden Hours
Form | Number of respondents | Frequency of response | Average time per response (in hours) | Annual hour burden
Neurobiobank Tissue Access Request | 50 | 1 | 15/60 | 13
Pre-Mortem Consent and Medical History | 50 | 1 | 1 | 50
Total |  |  |  | 63

Dated: January 29, 2014.
Keisha Shropshire,
Project Clearance Officer, NIMH, NIH.

[FR Doc. 2014-03204 Filed 2-12-14; 8:45 am]

BILLING CODE 4140-01-P